DEPARTMENT OF HOMELAND SECURITY

U.S. Customs and Border Protection Bureau

Approval of American Cargo Assurance, as a Commercial Gauger

AGENCY: U.S. Customs and Border Protection, Department of Homeland Security.

ACTION: Notice of approval of American Cargo Assurance, as a commercial gauger.

SUMMARY: Notice is hereby given, pursuant to CBP regulations, that American Cargo Assurance, has been approved to gauge petroleum, petroleum products, organic chemicals and vegetable oils for customs purposes for the next three years as of July 31, 2013.

DATES: Effective Dates: The approval of American Cargo Assurance, as commercial gauger became effective on July 31, 2013. The next triennial inspection date will be scheduled for July 2016.

FOR FURTHER INFORMATION CONTACT: Approved Gauger and Accredited Laboratories Manager, Laboratories and Scientific Services, U.S. Customs and Border Protection, 1300 Pennsylvania Avenue NW., Suite 1500N, Washington, DC 20229, tel. 202-344-1060.

SUPPLEMENTARY INFORMATION: Notice is hereby given pursuant to 19 CFR 151.13, that American Cargo Assurance, 3417-A Maplewood, Sulphur, LA 70663, has been approved to gauge petroleum, petroleum products, organic chemicals and vegetable oils for customs purposes, in accordance with the provisions of 19 CFR 151.13. Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to cbp.labhq@dhs.gov. Please reference the Web site listed below for a complete listing of CBP approved gaugers and accredited laboratories. http://cbp.gov/linkhandler/cgov/trade/basic_trade/labs_scientific_svcs/commercial_gaugers/gaulist.ctt/gaulist.pdf.

Dated: October 30, 2013.
Ira S. Reese,
Executive Director, Laboratories and Scientific Services.

[FR Doc. 2013-26601 Filed 11-5-13; 8:45 am]

BILLING CODE 9111-14-P